SMALL BUSINESS ADMINISTRATION

[Declaration of Disaster #3231]

State of Mississippi

Union County and the contiguous counties of Benton, Lafayette, Lee, Marshall, Pontotoc, Prentiss, and Tippah in the State of Mississippi constitute a disaster area due to damages caused by severe storms and tornadoes that occurred on January 3-4, 2000. Applications for loans for physical damage caused by this disaster may be filed until the close of business on March 13, 2000 and for economic injury until the close of business on October 11, 2000 at the address listed below or other locally announced locations: U.S. Small Business Administration, Disaster Area 2 Office, One Baltimore Place, Suite 300, Atlanta, GA 30308.

The interest rates are:

For Physical Damage

Homeowners with credit available elsewhere—7.500%

Homeowners without credit available elsewhere—3.750%

Businesses with credit available elsewhere—8.000%

Businesses and non-profit organizations without credit available elsewhere—4.000%

Others (including non-profit organizations) with credit available elsewhere—6.750%

For Economic Injury

Businesses and small agricultural cooperatives without credit available elsewhere—4.000%

The numbers assigned to this disaster are 323112 for physical damage and 9G4000 for economic injury.

(Catalog of Federal Domestic Assistance Program Nos. 59002 and 59008.)

Dated: January 11, 2000.
Aida Alvarez,
Administrator.

[FR Doc. 00-1518 Filed 1-20-00; 8:45 am]

BILLING CODE 8025-01-P